FEDERAL MARITIME COMMISSION

Sunshine Act Meeting

Agency Holding The Meeting: Federal Maritime Commission.

Time And Date: May 11, 2011—10 a.m.

Place: 800 North Capitol Street, NW., First Floor Hearing Room, Washington, DC.

Status: A portion of the meeting will be in Open Session; the remainder of the meeting will be held in Closed Session.

Matters To Be Considered:

Open Session

1. Staff Update on Implementation of the NVOCC Tariff Publication Exemption.

2. Staff Update on Trade Conditions.

3. Fact Finding No. 27: Potentially Unlawful, Unfair or Deceptive Ocean Transportation Practices Related to the Movement of Household Goods or Personal Property in U.S.-Foreign Oceanborne Trades—Discussion of Fact Finding Officer's Final Report and Recommendations.

Closed Session

1. Staff Briefing and Discussion on Trends in Filed Service Contracts: Indexes, Service Terms, and Dispute Resolution.

2. Staff Briefing and Discussion on the Ministry of Transport of the People's Republic of China Request for Adjustment of NVOCC Bond Rider for China Trades.

Contact Person For More Information: Karen V. Gregory, Secretary, (202) 523-5725.

Karen V. Gregory,
Secretary.

[FR Doc. 2011-11219 Filed 5-4-11; 4:15 pm]

BILLING CODE 6730-01-P